DEPARTMENT OF ENERGY

Federal Energy Regulatory Commission

Combined Notice of Filings

Take notice that the Commission has received the following Natural Gas Pipeline Rate and Refund Report filings:

Filings Instituting Proceedings

Docket Numbers: RP12-1015-000.

Applicants: WTG Hugoton, LP.

Description: WTGH Address Change Filing to be effective 10/1/2012.

Filed Date: 9/4/12.

Accession Number: 20120904-5000.

Comments Due: 5 p.m. e.t. 9/17/12.

Docket Numbers: RP12-1016-000.

Applicants: Gulf Crossing Pipeline Company LLC.

Description: Antero to Vanguard Permanent Capacity Releases on Neg Rate Agmts to be effective 9/1/2012.

Filed Date: 9/4/12.

Accession Number: 20120904-5023.

Comments Due: 5 p.m. e.t. 9/17/12.

Docket Numbers: RP12-1017-000.

Applicants: Gulf Crossing Pipeline Company LLC.

Description: Cap Rel Neg Rate Agmts Filing—Vanguard Permian to Tenaska to be effective 9/1/2012.

Filed Date: 9/4/12.

Accession Number: 20120904-5024.

Comments Due: 5 p.m. e.t. 9/17/12.

Docket Numbers: RP12-1019-000.

Applicants: Southern LNG Company, L.L.C.

Description: ACA Surcharge—SLNG 3 Service to be effective 10/1/2012.

Filed Date: 9/4/12.

Accession Number: 20120904-5201.

Comments Due: 5 p.m. e.t. 9/17/12.

Docket Numbers: RP12-1020-000.

Applicants: Granite State Gas Transmission, Inc.

Description: Revised System Maps to be effective 9/5/2012.

Filed Date: 9/4/12.

Accession Number: 20120904-5298.

Comments Due: 5 p.m. e.t. 9/17/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-88-006.

Applicants: National Fuel Gas Supply Corporation.

Description: RP12-88 Final Tariff Records Rate Case (09-05-12) to be effective 11/1/2012.

Filed Date: 9/5/12.

Accession Number: 20120905-5082.

Comments Due: 5 p.m. e.t. 9/17/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 6, 2012.
Nathaniel J. Davis, Sr.,
Deputy Secretary.

[FR Doc. 2012-22546 Filed 9-12-12; 8:45 am]

BILLING CODE 6717-01-P